DEPARTMENT OF ENERGY

Federal Energy Regulatory Commission

Combined Notice of Filings #3

Take notice that the Commission received the following Complaints and Compliance filings in EL Dockets:

Docket Numbers: EL26-38-000.

Applicants: Southern Indiana Gas and Electric Company v. Midcontinent Independent System Operator, Inc.

Description: Complaint of Southern Indiana Gas and Electric Company v. Midcontinent Independent System Operator, Inc.

Filed Date: 1/5/26.

Accession Number: 20260105-5189.

Comment Date: 5 p.m. ET 1/26/26.

Take notice that the Commission received the following electric rate filings:

Docket Numbers: ER11-47-019; ER12-1540-017; ER12-1541-017; ER12-1542-017; ER12-1544-017; ER14-594-026; ER14-867-012; ER14-868-013; ER16-323-015; ER17-1930-015; ER17-1931-015; ER17-1932-015; ER19-606-009; ER20-649-012; ER22-2474-005.

Applicants: Top Hat Wind Energy LLC, AEP Energy Partners, Inc., AEP Generation Resources Inc., Southwestern Electric Power Company, AEP Texas Inc., Public Service Company of Oklahoma, Ohio Valley Electric Corporation, AEP Retail Energy Partners, AEP Energy, Inc., Ohio Power Company, Wheeling Power Company, Kingsport Power Company, Kentucky Power Company, Indiana Michigan Power Company, Appalachian Power Company.

Description: Triennial Market Power Analysis for Northeast Region of Appalachian Power Company, et al.

Filed Date: 12/29/25.

Accession Number: 20251229-5586.

Comment Date: 5 p.m. ET 2/27/26.

Docket Numbers: ER24-1151-001.

Applicants: Aquamarine Lessee, LLC.

Description: Tariff Amendment: Aquamarine Lessee Response to Deficiency Letter to be effective 4/1/2024.

Filed Date: 1/6/26.

Accession Number: 20260106-5000.

Comment Date: 5 p.m. ET 1/27/26.

Docket Numbers: ER24-1152-001.

Applicants: Aquamarine Westside, LLC.

Description: Tariff Amendment: Aquamarine Westside Response to Deficiency Letter to be effective 4/1/2024.

Filed Date: 1/6/26.

Accession Number: 20260106-5001.

Comment Date: 5 p.m. ET 1/27/26.

Docket Numbers: ER26-209-001.

Applicants: Wattmore Lincoln Energy Storage, LLC.

Description: Tariff Amendment: Amendment to 1 to be effective 1/7/2026.

Filed Date: 1/6/26.

Accession Number: 20260106-5080.

Comment Date: 5 p.m. ET 1/27/26.

Docket Numbers: ER26-475-001.

Applicants: Midcontinent Independent System Operator, Inc.

Description: Tariff Amendment: 2026-01-06_SA 4589 NSP-NSP Substitute GIA (R1050) to be effective 10/31/2025.

Filed Date: 1/6/26.

Accession Number: 20260106-5148.

Comment Date: 5 p.m. ET 1/27/26.

Docket Numbers: ER26-948-000.

Applicants: Public Service Company of New Mexico.

Description: § 205(d) Rate Filing: AEPCO Transmission Service Agreement 40 MW to be effective 1/6/2026.

Filed Date: 1/5/26.

Accession Number: 20260105-5156.

Comment Date: 5 p.m. ET 1/26/26.

Docket Numbers: ER26-949-000.

Applicants: Public Service Company of New Mexico.

Description: § 205(d) Rate Filing: Certificate of Concurrence—RS No. 202 to be effective 12/9/2025.

Filed Date: 1/6/26.

Accession Number: 20260106-5002.

Comment Date: 5 p.m. ET 1/27/26.

Docket Numbers: ER26-950-000.

Applicants: PJM Interconnection, L.L.C.

Description: § 205(d) Rate Filing: Original Necessary Studies Agreement, SA No. 7807; Queue No. AE2-322 to be effective 3/8/2026.

Filed Date: 1/6/26.

Accession Number: 20260106-5030.

Comment Date: 5 p.m. ET 1/27/26.

Docket Numbers: ER26-951-000.

Applicants: Midcontinent Independent System Operator, Inc.

Description: § 205(d) Rate Filing: 2026-01-06 SA 4279 Ameren IL-Albion PV1 1st Rev GIA (J1422) to be effective 12/29/2025.

Filed Date: 1/6/26.

Accession Number: 20260106-5083.

Comment Date: 5 p.m. ET 1/27/26.

Docket Numbers: ER26-952-000.

Applicants: MidAmerican Energy Company, Western Area Power Administration.

Description: § 205(d) Rate Filing: MidAmerican Energy Company submits tariff filing per 35.13(a)(2)(iii: Amended Contract for Interconnection (SA No. 210) to be effective 12/1/2025.

Filed Date: 1/6/26.

Accession Number: 20260106-5108.

Comment Date: 5 p.m. ET 1/27/26.

Docket Numbers: ER26-953-000.

Applicants: Niagara Mohawk Power Corporation, New York Independent System Operator, Inc.

Description: § 205(d) Rate Filing: New York Independent System Operator, Inc. submits tariff filing per 35.13(a)(2)(iii: NYISO-National Grid Joint 205: SGIA ELP Granby Solar II Project SA2934 to be effective 12/29/2025.

Filed Date: 1/6/26.

Accession Number: 20260106-5117.

Comment Date: 5 p.m. ET 1/27/26.

Docket Numbers: ER26-954-000.

Applicants: IP Easley, LLC.

Description: Initial Rate Filing: Shared Facilities and Co-Tenancy Agreements to be effective 1/7/2026.

Filed Date: 1/6/26.

Accession Number: 20260106-5135.

Comment Date: 5 p.m. ET 1/27/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 6, 2026.
Carlos D. Clay,
Deputy Secretary.

[FR Doc. 2026-00262 Filed 1-8-26; 8:45 am]

BILLING CODE 6717-01-P